DEPARTMENT OF COMMERCE

National Oceanic and Atmospheric Administration

[RIN 0648-XA468]

New England Fishery Management Council; Public Meeting

AGENCY: National Marine Fisheries Service (NMFS), National Oceanic and Atmospheric Administration (NOAA), Commerce.

ACTION: Public meeting.

SUMMARY: The New England Fishery Management Council (Council) will hold a three-day meeting on Tuesday through Thursday, June 21-23, 2011 to consider actions affecting New England fisheries in the exclusive economic zone (EEZ).

DATES: The meeting will be held on Tuesday, Wednesday and Thursday, June 21-23 starting at 9 a.m. on Tuesday and 8:30 a.m. on Wednesday and Thursday.

ADDRESSES: The meeting will be held at the Holiday Inn by the Bay, 88 Spring Street, Portland, ME 04101; telephone (207) 775-2311; fax: (508) 761-8224. Requests for special accommodations should be addressed to the New England Fishery Management Council, 50 Water Street, Mill 2, Newburyport, MA 01950; telephone (978) 465-0492.

FOR FURTHER INFORMATION CONTACT: Paul J. Howard, Executive Director, New England Fishery Management Council, (978) 465-0492.

SUPPLEMENTARY INFORMATION:

Tuesday, June 21, 2011

Following introductions and any announcements, the Council will receive brief reports from the Council Chairman and Executive Director, the NOAA Fisheries Regional Administrator, Northeast Region, Northeast Fisheries Science Center and Mid-Atlantic Fishery Management Council liaisons, NOAA General Counsel, representatives of the U.S. Coast Guard and the Atlantic States Marine Fisheries Commission, as well as NOAA Enforcement/VMS representatives. Prior to a review of any experimental fishery permit applications that have been received since its last meeting, the Council will discuss its press policies. A representative of the U.S. Navy will then will update the Council on its operations and training activities in the North Atlantic. An open public comment period is scheduled prior to a lunch break for any interested party who may wish to provide brief comments on issues relevant to Council business but not otherwise listed on the meeting agenda. Following the break, the Council will receive a presentation about and comment on possible revisions to the National Standard Guideline 10 (NS10. NS10 is the primary source of guidance for safety issues in fishery management regulations. The Council's Enforcement Committee also will provide comments on NS10 and on NOAA's enforcement priority-setting process. The committee also may comment on several sea scallop measures that may be included in Framework Adjustment 23 to the Scallop Fishery Management Plan (FMP). Under this agenda item the Coast Guard also may report on its initiative to improve compliance with and the effectiveness of Northeast Multispecies FMP regulations. At the end of the day the Council will consider several cooperative research issues, including the disposition of catch on scientific research cruises and how that catch is accounted for in estimates of fishing mortality. Council members also will comment on the NMFS Strategic Plan for Cooperative Research in the Northeast and provide updated information and alternatives that may assist the agency in revising its programs. NOAA/NMFS staff also will hold a public session in the Council meeting room from 5:30-7:30 for stakeholders and anyone who would like to comment, discuss ideas, critique or provide new information that may be considered in possible revisions to the strategic plan.

Wednesday, June 22, 2011

NOAA's Northeast Fisheries Science Center staff will present an overview of its interim report on The Performance of the Northeast Multispecies (Groundfish) Fishery, May 2010-January 2011, with a question and answer period to follow. The Council's Groundfish Committee will discuss possible revisions to the groundfish gear policy and provide an update on the development of Framework Adjustment 47 to the Groundfish FMP. The Council intends to approve Amendment 17 to the FMP to authorize state permit banks and will receive a report about the recent workshop on accumulation limits in the groundfish fishery. Following a lunch break, there will be an update about further work on Essential Fish Habitat Omnibus 2. The Council also will receive an update on alternatives that may be included in Framework Adjustment 23 to the Scallop FMP. The day will conclude with a report from the Monkfish Committee on a white paper that discusses pros and cons of reorganizing the FMP in various forms and according to the fishery operations in the Northern and Southern Fishery Management Areas. The committee also will ask the Council for further guidance on the development of Amendment 6 to the Monkfish FMP, an action that may include some type of catch share management.

Thursday, June 23, 2011

The final day of the Council meeting will begin with a discussion of an April 2011 report commissioned by NMFS that reviewed the fisheries management process in the Northeast in the context of the effectiveness of the relationship among Council, the NMFS Regional Office and the Northeast Fisheries Science Center. The Scientific and Statistical Committee (SSC) will provide an overview of the method and process, and any alternatives, that may be used to set 2012-2014 acceptable biological catches (ABCs) for all groundfish stocks. The SSC also will present an acceptable biological catch (ABC) recommendation for the skate complex for fishing years 2012-2013. Before adjournment, the Council also may approve skate management measures that will be included in the 2012-2013 specifications package or could identify management alternatives and initiate Framework adjustment 2 to the Skate Complex FMP.

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Paul J. Howard (see ADDRESSES) at least 5 days prior to the meeting date.

Dated: May 31, 2011.
Tracey L. Thompson,
Acting Director, Office of Sustainable Fisheries, National Marine Fisheries Service.

[FR Doc. 2011-13763 Filed 6-2-11; 8:45 am]

BILLING CODE 3510-22-P